DEPARTMENT OF THE INTERIOR

National Park Service

[NPS-WASO-NAGPRA-NPS0026557; PPWOCRADN0-PCU00RP14.R50000]

Notice of Inventory Completion: U.S. Department of Defense, Army Corps of Engineers, Nashville District, Nashville, TN; Correction

AGENCY: National Park Service, Interior.

ACTION: Notice; correction.

SUMMARY: The U.S. Army Corps of Engineers, Nashville District (USACE), has corrected an inventory of human remains and associated funerary objects, published in a Notice of Inventory Completion in the Federal Register on August 8, 2017. This notice corrects the minimum number of individuals and the number of associated funerary objects.

ADDRESSES: Dr. Valerie McCormack, Archeologist, Department of Defense, Nashville District, Corps of Engineers, U.S. Army Corps of Engineers, Nashville District, 110 9th Avenue South, Room A-405, Nashville, TN 37203, telephone (615) 736-7847, email valerie.j.mccormack@usace.army.mil.

SUPPLEMENTARY INFORMATION: Notice is here given in accordance with the Native American Graves Protection and Repatriation Act (NAGPRA), 25 U.S.C. 3003, of the correction of an inventory of human remains and associated funerary objects under the control of the U.S. Army Corps of Engineers, Nashville District, Nashville, TN. The human remains and associated funerary objects were removed from Lyon County, KY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and number of associated funerary objects published in a Notice of Inventory Completion in the Federal Register (82 FR 37108, August 8, 2017). A re-inventory of the collection was unable to locate one of the associated funerary objects listed in the earlier notice, but did locate additional human remains and associated funerary objects.

Correction

In the Federal Register (82 FR 37108, August 8, 2017), column 2, paragraph 3, sentence 1 is corrected by substituting the following sentence:

In 1959, human remains representing, at minimum, 132 individuals were removed from the Tinsley Hill Cemetery site (15LY18b).

In the Federal Register (82 FR 37108, August 8, 2017), column 2, paragraph 3, sentence 2 is corrected by substituting the following sentence:

The remains include 21 adult males, five adult probable males, 20 adult females, six adult probable females, 30 adults of indeterminate sex, 29 subadults, 20 infants, and one individual of indeterminate age and sex.

In the Federal Register (82 FR 37108, August 8, 2017), column 2, paragraph 3, sentence 4 is corrected by substituting the following sentence:

The 540 associated funerary objects are 323 pottery sherds, five burned clay, two projectile points, 11 chipped stone tool fragments, two stone drill fragments, two stone cores, one stone celt, one flint chisel, one fluorspar pendant, 38 debitage, two quartz, one sandstone, 24 UID stones, 21 cannel coal, one splinter bone awl, one worked antler tip, two deer teeth, one elk tooth, 16 UID bones, nine pieces of shell, 17 shells, nine pieces of charcoal, one mica, three red ochre, three crinoids, one fossil coral, one soil sample, 19 iron nails, five pieces of iron, one metal carpet tack, two plastic buttons, 12 ceramics, one brown glass, and one lead.

In the Federal Register (82 FR 37108, August 8, 2017), column 2, paragraph 4, sentence 8 is corrected by substituting the following sentence:

The eight associated funerary objects are four pottery sherds, one broken antler tip drilled lengthwise through the base, and three faunal fragments.

In the Federal Register (82 FR 37108, August 8, 2017), column 3, paragraph 3, sentence 2 is corrected by substituting the following sentence:

Pursuant to 25 U.S.C. 3001(9), the human remains described in this notice represent the physical remains of 141 individuals of Native American ancestry.

In the Federal Register (82 FR 37108, August 8, 2017), column 3, paragraph 3, sentence 3 is corrected by substituting the following sentence:

Pursuant to 25 U.S.C. 3001(3)(A), the 548 objects described in this notice are reasonably believed to have been placed with or near individual human remains at the time of death or later as part of the death rite or ceremony.

Additional Requestors and Disposition

For questions related to this notice, contact Dr. Valerie McCormack, Archeologist, Department of Defense, Nashville District, Corps of Engineers, U.S. Army Corps of Engineers, Nashville District, 110 9th Avenue South, Room A-405, Nashville, TN 37203, telephone (615) 736-7847, email valerie.j.mccormack@usace.army.mil.

The U.S. Army Corps of Engineers, Nashville District, is responsible for notifying the Cherokee Nation; Eastern Band of the Cherokee Indians; and the United Keetoowah Band of Cherokee Indians in Oklahoma that this notice has been published.

Dated: September 20, 2018.
Melanie O'Brien,
Manager, National NAGPRA Program.

[FR Doc. 2018-22586 Filed 10-16-18; 8:45 am]

BILLING CODE 4312-52-P